DEPARTMENT OF COMMERCE

National Oceanic and Atmospheric Administration

RIN: 0648-XH57

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Squid, Mackerel, and Butterfish Monitoring Committee and Scientific and Statistical Committee (SSC) will hold a public meeting.

DATES: The meeting will be held on Wednesday, May 21, 2008, from 10 a.m. to 5 p.m.

ADDRESSES: The meeting will be held at the Hilton Garden Inn Providence Airport, One Thurber Street, Warwick, RI 02886; telephone: (401) 734-9600).

Council address: Mid-Atlantic Fishery Management Council; 300 S. New Street, Room 2115, Dover, DE 19904; telephone: (302) 674-2331.

FOR FURTHER INFORMATION CONTACT: Daniel T. Furlong, Executive Director, Mid-Atlantic Fishery Management Council; 300 S. New Street, Room 2115, Dover, DE 19904; telephone: (302) 674-2331, extension 19.

SUPPLEMENTARY INFORMATION: The purposes of this meeting are: to examine the biology, fisheries, and current stock status for Atlantic mackerel, Loligo and Illex squid and butterfish; to review staff analyses regarding proposed specifications and related management measures for the 2009 fishing year; and, to make recommendations to the Council's Squid, Mackerel, and Butterfish Committee relative to the 2009 quota specifications and other management measures. The Council's SSC will meet simultaneously with the Squid, Mackerel, and Butterfish Monitoring Committee to provide its input and advice concerning the 2009 quota specifications and other management measures developed by the Monitoring Committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: April 28, 2008.
Tracey L. Thompson,
Acting Director, Office of Sustainable Fisheries, National Marine Fisheries Service.

[FR Doc. E8-9600 Filed 4-30-08; 8:45 am]

BILLING CODE 3510-22-S